DEPARTMENT OF THE INTERIOR

Bureau of Reclamation

National Park Service

Extension of Public Scoping Period for the Draft Environmental Impact Statement for Adoption of a Long-term Experimental and Management Plan for the Operation of Glen Canyon Dam

AGENCY: Bureau of Reclamation and National Park Service, Interior.

ACTION: Notice of extension.

SUMMARY: The Department of the Interior, through the Bureau of Reclamation and the National Park Service, is extending the public scoping period for the Draft Environmental Impact Statement (EIS) for Adoption of a Long-term Experimental and Management Plan (LTEMP) for the Operation of Glen Canyon Dam to January 31, 2012. The Notice to Solicit Comments and Hold Public Scoping Meetings was published in the Federal Register on October 17, 2011 (76 FR 64104). The public scoping period was originally scheduled to end on Friday, December 30, 2011.

DATES: Comments on the scope of the EIS will be accepted until close of business on Tuesday, January 31, 2012.

ADDRESSES: You may submit comments by the following methods:

• Web site: http://ltempeis.anl.gov (preferred method).

• Mail: Glen Canyon LTEMP EIS Scoping, Argonne National Laboratory, EVS/240, 9700 S. Cass Avenue, Argonne, Illinois 60439.

FOR FURTHER INFORMATION CONTACT: For further information, contact Beverley Heffernan, Bureau of Reclamation, Upper Colorado Region, Attention: UC-700, 125 South State Street, Salt Lake City, Utah 84138-1147; facsimile (801) 524-3826; or visit the Glen Canyon LTEMP EIS Web site at: http://ltempeis.anl.gov. Persons who use a telecommunications device for the deaf may call the Federal Information Relay Service (FIRS) at 1 (800) 877-8339 to contact the above individual during normal business hours. The FIRS is available 24 hours a day, 7 days a week, to leave a message or question with the above individual. You will receive a reply during normal business hours.

SUPPLEMENTARY INFORMATION: In response to several requests from interested parties for an extension, Reclamation and the National Park Service are extending the close of the public scoping period to January 31, 2012. Comments should focus on the issues relevant to the proposed Federal action published in the July 6, 2011, Federal Register notice (76 FR 39435).

Public Disclosure

Before including a name, address, telephone number, email address, or other personal identifying information in the comment, please be advised that the entire comment—including personal identifying information—may be made publicly available at any time. While you can ask us in your comment to withhold your personal identifying information from public review, we cannot guarantee that we will be able to do so.

Dated: November 22, 2011.
Larry Walkoviak,
Regional Director—Upper Colorado Region, Bureau of Reclamation.

[FR Doc. 2011-33538 Filed 12-29-11; 8:45 am]

BILLING CODE 4310-MN-P